DEPARTMENT OF ENERGY

Federal Energy Regulatory Commission

[Docket No. CP04-36-005]

Weavers Cove Energy, LLC; Notice of Technical Conference

June 5, 2009.

On Tuesday, June 16, 2009, at 9 a.m. (EDT), staff of the Office of Energy Projects will convene an engineering design and technical conference regarding the proposed Weavers Cove Energy Offshore Berth Project (cryogenic conference). The conference will be held at the Venus de Milo in Swansea, Massachusetts. The Venus de Milo is located at 75 GAR Highway, Swansea, MA 02777. For venue details call (508) 678-3901.

In view of the nature of Critical Energy Infrastructure Information to be explored, the cryogenic conference will not be open to the public. No recording devices will be allowed at the conference. Attendance at this conference will be limited to existing parties to the proceeding (anyone who has specifically requested to intervene as a party) and to representatives of interested Federal, State, and local agencies. Any person planning to attend the June 16th cryogenic conference must register by close of business on Thursday, June 11, 2009. Registrations may be submitted either online at http://www.ferc.gov/whats-new/registration/cryo-conf-form.asp or by faxing a copy of the form (found at the referenced online link) to 202-208-0353. All attendees must sign a non-disclosure statement prior to entering the conference. For additional information regarding the cryogenic conference, please contact Heather Ferree at 202-502-6414.

Kimberly D. Bose,
Secretary.

[FR Doc. E9-13792 Filed 6-11-09; 8:45 am]

BILLING CODE 6717-01-P